DEPARTMENT OF LABOR

Employment and Training Administration

[TA-W-75,227; TA-W-75,227A]

Dana Structural Manufacturing, LLC, Structures Division, Longview, TX; Leased Workers From Manpower Working On-Site at Dana Structural Manufacturing, LLC Structures Division, Longview, TX; Amended Certification Regarding Eligibility To Apply for Worker Adjustment Assistance

In accordance with Section 223 of the Trade Act of 1974, as amended (“Act”), 19 U.S.C. 2273, the Department of Labor issued a Certification of Eligibility to Apply for Worker Adjustment Assistance on February 18, 2011, applicable to workers of Dana Structural Manufacturing, LLC, Structures Division, including on-site leased workers from Manpower, Longview, Texas. The notice was published in the Federal Register on March 10, 2011 (76 FR 13230).

At the request of the State Agency, the Department reviewed the certification for workers of the subject firm. The workers are engaged in the production of component parts for the automotive industry.

The review shows that on December 10, 2008, a certification of eligibility to apply for adjustment assistance was issued for all workers of Dana Holding Corporation, Structural Solutions Group, including on-site workers from Career Personnel, Longview, Texas, separated from employment on or after October 29, 2007 through December 10, 2010 (TA-W-64,310). The notice was published in the Federal Register on December 30, 2008 (73 FR 79915).

In order to avoid an overlap in worker group coverage concerning the workers from Dana Structural, the Department is amending the February 10, 2010 impact date established for TA-W-75,227, to read December 11, 2010. Since the earlier certification did not include on-site leased workers from Manpower, those workers will be covered under TA-W-75,227A with the impact date being one full year before the petition date. There were no leased workers from Career Personnel on-site at the subject firm during the relevant period.

The amended notice applicable to TA-W-75,227 is hereby issued as follows:

All workers of Dana Structural Manufacturing, LLC, Structures Division, Longview, Texas, (TA-W-75,227) who became totally or partially separated from employment on or after December 11, 2010, through February 18, 2013, and all workers in the group threatened with total or partial separation from employment on date of certification through two years from the date of certification, are eligible to apply for adjustment assistance under Chapter 2 of Title II of the Trade Act of 1974, as amended; and all leased workers from Manpower working on-site at Dana Structural Manufacturing, LLC, Structures Division, Longview, Texas, (TA-W-75,227A) who became totally or partially separated from employment on or after February 10, 2010, through February 18, 2013, and all workers in the group threatened with total or partial separation from employment on date of certification through two years from the date of certification, are eligible to apply for adjustment assistance under Chapter 2 of Title II of the Trade Act of 1974, as amended and

Signed in Washington, DC, this 11th day of July 2011.
Michael W. Jaffe,
Certifying Officer, Office of Trade Adjustment Assistance.

[FR Doc. 2011-18234 Filed 7-19-11; 8:45 am]

BILLING CODE 4510-FN-P